NUCLEAR REGULATORY COMMISSION

[Docket No. 50-609; NRC-2013-0235]

Northwest Medical Isotopes, LLC; Construction Permit Application

AGENCY: Nuclear Regulatory Commission.

ACTION: Construction permit application; docketing.

SUMMARY: The U.S. Nuclear Regulatory Commission (NRC) staff has determined that the partial application for a construction permit, submitted by Northwest Medical Isotopes, LLC (NWMI) is acceptable for docketing. The NWMI proposes to build a medical radioisotope production facility located in Columbia, Missouri.

DATES: June 8, 2015.

ADDRESSES: Please refer to Docket ID NRC-2013-0235 when contacting the NRC about the availability of information regarding this document. You may obtain publicly-available information related to this document using any of the following methods:

• Federal Rulemaking Web site: Go to http://www.regulations.gov and search for Docket ID NRC-2013-0235. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Michael Balazik, Office of Nuclear Reactor Regulation, U.S. Nuclear Regulatory Commission, Washington, DC 20555-0001; telephone: 301-415-2856; email: Michael.Balazik@nrc.gov.

SUPPLEMENTARY INFORMATION: On November 7, 2014, NWMI filed with the NRC, pursuant to Section 103 of the Atomic Energy Act of 1954, as amended, and part 50 of Title 10 of the Code of Federal Regulations (10 CFR), a portion of an application for a construction permit for a medical radioisotope production facility in Columbia, Missouri. By letter dated February 5, 2015 (ADAMS Accession No. ML15086A262), NWMI withdrew and resubmitted this portion of its construction permit application (ADAMS Accession No. ML15086A261) to include a discussion of connected actions in its environmental report in response to a January 23, 2015, letter from the NRC (ADAMS Accession No. ML14349A501). A notice of receipt of this application was previously published in the Federal Register on April 21, 2015 (80 FR 22227).

An exemption from certain requirements of 10 CFR 2.101(a)(5) granted by the Commission on October 7, 2013, and published in the Federal Register on October 24, 2013 (78 FR 63501), in response to a letter from NWMI dated August 9, 2013 (ADAMS Accession No. ML13227A295), allowed for NWMI to submit its construction permit application in two parts. Specifically, the exemption allowed NWMI to submit a portion of its application for a construction permit up to six months prior to the remainder of the application regardless of whether or not an environmental impact statement or a supplement to an environmental impact statement was prepared during the review of its application. On February 5, 2015, in accordance with 10 CFR 2.101(a)(5), NWMI submitted the following in part one of the construction permit application (ADAMS Accession No. ML15086A261):

• The description and safety assessment of the site required by 10 CFR 50.34(a)(1),

• the environmental report required by 10 CFR 50.30(f),

• the filing fee information required by 10 CFR 50.30(e) and 10 CFR 170.21,

• the general information required by 10 CFR 50.33; and

• the agreement limiting access to classified information required by 10 CFR 50.37.

The NRC staff has determined that NWMI has submitted the information listed above in accordance with 10 CFR 2.101(a)(5) and that the partial application is acceptable for docketing. The docket number established for the NWMI facility is 50-609.

The NRC staff will perform a detailed technical review of the partial construction permit application. Docketing of the partial construction permit application does not preclude the NRC from requesting additional information from the applicant as the review proceeds, nor does it predict whether the Commission will grant or deny the application. The NRC staff will also perform an acceptance review of the second and final part of the construction permit application when it is tendered. As stated in NWMI's February 5, 2015, letter, the second and final part of NWMI's application for a construction permit will contain the remainder of the preliminary safety analysis report required by 10 CFR 50.34(a) and will be submitted in accordance with the requirements of 10 CFR 2.101(a)(5). If, after completion of the acceptance review of the full construction permit application, the full construction permit application is found acceptable for docketing, the Commission or a designated Atomic Safety and Licensing Board will conduct a hearing in accordance with Subpart L, “Simplified Hearing Procedures for NRC Adjudications,” of 10 CFR part 2 and the Advisory Committee on Reactor Safeguards will prepare a report on the construction permit application consistent with 10 CFR 50.58, “Hearings and report of the Advisory Committee on Reactor Safeguards.” The Commission will announce in a future Federal Register notice, the opportunity to petition for leave to intervene in the hearing required for this application by 10 CFR 50.58, as well as the time and place of the hearing. If the Commission finds that the full construction permit application meets the applicable standards of the Atomic Energy Act and the Commission's regulations, and that required notifications to other agencies and bodies have been made, the Commission will issue a construction permit, in the form and containing conditions and limitations that the Commission finds appropriate and necessary.

Pursuant to 10 CFR part 51, the NRC staff will conduct an environmental review of the construction permit before recommending Commission action on the application. The NRC staff will determine in accordance with 10 CFR 51.25, whether it will prepare an environmental impact statement or an environmental assessment to inform the decision on the construction permit application and will publish a Federal Register notice concerning its environmental review.

Dated at Rockville, Maryland, this 29th day of May 2015.
For the Nuclear Regulatory Commission.
Alexander Adams, Jr.,
Chief, Research and Test Reactors Licensing Branch, Division of Policy and Rulemaking, Office of Nuclear Reactor Regulation.

[FR Doc. 2015-13937 Filed 6-5-15; 8:45 am]

BILLING CODE 7590-01-P